DEPARTMENT OF TRANSPORTATION

Federal Transit Administration

[Docket No. FTA-2023-0013]

Bus Compartment Redesign and Bus of the Future Initiatives; Meeting

AGENCY: Federal Transit Administration (FTA), Department of Transportation (DOT).

ACTION: Notice of public meeting.

SUMMARY: The Federal Transit Administration (FTA) will hold a virtual listening session concerning FTA's Bus Compartment Redesign and Bus of the Future initiatives. This meeting will be a forum for stakeholders to give feedback on key issues, including operator safety, passenger safety, accessibility, bus component safety, reduction of bus customization, and emerging technologies related to transit vehicles. This online meeting is open to the public.

DATES: The webinar will be held on June 22, 2023, from 9:00 a.m. to 12:00 p.m., Eastern Daylight Time (EDT). Comments must be submitted by July 24, 2023. Late comments will be considered to the extent practicable.

ADDRESSES: The session will be held virtually. Interested parties should register in advance at https://usdot.zoomgov.com/webinar/register/WN_ZPYvheyuQMizlgL2Vs7kvg.

Members of the public may submit written comments on the questions provided by FTA on its website prior to the meeting, which also will be provided during the meeting, no later than July 24, 2023, using any of the following methods:

• Federal eRulemaking Portal: Go to https://www.regulations.gov. Follow the online instructions for submitting comments to Docket Number FTA-2023-0013.

• Fax: 202-493-2251.

• Mail: Docket Management Facility; U.S. Department of Transportation, 1200 New Jersey Avenue SE, West Building, Room W12-140, Washington, DC 20590.

• Hand Delivery: U.S. Department of Transportation, 1200 New Jersey Avenue SE, Room W12-140, Washington, DC, between 9 a.m. and 5 p.m., E.T. Monday through Friday, except Federal holidays.

Each submission must include the Agency name and Docket Number FTA 2023-0013. Note that DOT posts all comments received without change to https://www.regulations.gov, including any personal information included in a comment.

Docket: For access to the docket, visit https://www.regulations.gov at any time or visit Room W12-140 on the ground level of the West Building, 1200 New Jersey Avenue SE, Washington, DC, between 9 a.m. and 5 p.m., EDT, Monday through Friday, except Federal holidays. The on-line Federal document management system is available 24 hours each day, 365 days each year.

Privacy Act: Anyone may view the electronic docket. The docket may include the name of the individual submitting the comment (or of the person signing the comment, if submitted on behalf of an association, business, labor union, etc.). You may review DOT's Privacy Act Statement for the Federal Docket Management System published in the Federal Register (73 FR 3316) or visit https://edocket.access.gpo.gov/2008/pdf/E8-785.pdf.

FOR FURTHER INFORMATION CONTACT: Maria Roell, Transportation Program Analyst, Office of Research, Demonstration, and Innovation (TRI) via email: maria.roell@dot.gov, or phone (202) 366-9214. Individuals with disabilities requesting reasonable accommodations or special assistance to participate in the virtual meeting should contact Maria Roell no later than June 21, 2023.

SUPPLEMENTARY INFORMATION:

I. Background

In October 2020, the FTA awarded two Bus Operator Compartment (BCP) Program grants totaling $1,600,000 to the International Transportation Learning Center (ITLC) and the New Orleans Regional Transit Authority (NORTA) to redesign a transit bus compartment to improve safety for operators. As the initial piece of this program comes to a close, FTA is interested in hearing from stakeholders on the outcomes of that research and both the short-term and long-term strategies for designing buses of the future.

II. Meeting Participation

This meeting is open to the public. However, FTA particularly invites participation from:

• Labor Unions;

• Disability Community;

• Academia and Researchers;

• Transit Vehicle Manufacturers and Component Manufacturers;

• Standard Development Organizations;

• Professional Associations; and

• Recipients of FTA Funding

Read-ahead materials, including questions for consideration, are available at https://www.transit.dot.gov/research-innovation/redesign-transit-bus-operator-compartment-improve-safety-operational-efficiency. Although FTA will engage with virtual attendees during the meeting, FTA recommends that stakeholders submit comments to the docket for consideration. The meeting will be live-captioned and recorded and made available after the webinar on the web page noted above.

This listening session will help FTA gather broad stakeholder input on key issues, including operator safety, passenger safety, accessibility, bus component safety, reduction of bus customization, and emerging technologies related to transit vehicles.

III. Docket Information

FTA requests that anyone who cannot participate in this online listening session submit written comments to the docket as soon as practicable. In addition, FTA will place any written materials it receives during the meeting in the docket.

Authority: 49 U.S.C. 5312.

Nuria I. Fernandez,
Administrator.

[FR Doc. 2023-12976 Filed 6-15-23; 8:45 am]

BILLING CODE 4910-57-P